DEPARTMENT OF COMMERCE

National Oceanic and Atmospheric Administration

50 CFR Part 679

[Docket No. 240808-0216]

RIN 0648-BM69

Fisheries of the Exclusive Economic Zone Off Alaska; Amendment 113 to the Fishery Management Plan for the Groundfish of the Gulf of Alaska; Central Gulf of Alaska Rockfish Program Adjustments

AGENCY: National Marine Fisheries Service (NMFS), National Oceanic and Atmospheric Administration (NOAA), Commerce.

ACTION: Final rule.

SUMMARY: NMFS issues this final rule to implement amendment 113 to the Fishery Management Plan (FMP) for the Groundfish of the Gulf of Alaska (GOA). This final rule modifies specific provisions of the Central Gulf of Alaska (CGOA) Rockfish Program (RP) to change the season start date, remove the catcher vessel (CV) cooperative quota (CQ) cap, and revise the processing and harvesting caps. This final rule is necessary to provide increased flexibility and efficiency and to help ensure the rockfish total allowable catch (TAC) is fully harvested and landed in Kodiak while maintaining the intent of the RP. This action is intended to promote the goals and objectives of the Magnuson-Stevens Fishery Conservation and Management Act (Magnuson-Stevens Act), the GOA FMP, and other applicable laws.

DATES: Effective September 16, 2024.

ADDRESSES: Electronic copies of amendment 113 to the GOA FMP, the Environmental Assessment/Regulatory Impact Review prepared for this action (the analysis), and the Finding of No Significant Impact prepared for this action may be obtained from https://www.regulations.gov and the NMFS Alaska Region website at https://www.fisheries.noaa.gov/region/alaska.

Written comments regarding the burden-hour estimates or other aspects of the collection-of-information requirements contained in this final rule may be submitted to NMFS Alaska Region, P.O. Box 21668, Juneau, AK 99802-1668, Attn: Gretchen Harrington; and to www.reginfo.gov/public/do/PRAMain. Find this particular information collection by selecting “Currently under Review—Open for Public Comments” or by using the search function.

FOR FURTHER INFORMATION CONTACT: Joel Kraski, 907-586-7228, joel.kraski@noaa.gov.

SUPPLEMENTARY INFORMATION: This final rule implements amendment 113 to the GOA FMP. A notice of availability (NOA) for amendment 113 was published by NMFS in the Federal Register on April 4, 2024 (89 FR 23535), with public comments invited through June 3, 2024. NMFS published a proposed rule to implement amendment 113 in the Federal Register on May 10, 2024 (89 FR 40449), with public comments invited through June 10, 2024. The Secretary of Commerce approved amendment 113 on June 27, 2024 after considering information from the public and determining that amendment 113 is consistent with the GOA FMP, the Magnuson-Stevens Act, and other applicable laws.

NMFS received 3 relevant written comments in response to requests for public comment, that were either directed to the NOA for the FMP amendments, the proposed rule, or both, in association with Secretarial approval of the amendment or the proposed rule. A summary of the comments and NMFS' responses are provided under the heading Comments and Responses section below.

Background

The Rockfish Program

The RP was developed to enhance resource conservation and improve economic efficiency in the CGOA rockfish fisheries. A detailed description of the RP and its development is provided in the preambles to the proposed and final rules implementing the RP (76 FR 52147, August 19, 2011; 76 FR 81248, December 27, 2011).

The RP, which includes the CGOA rockfish species of Pacific ocean perch, northern rockfish, and pelagic shelf rockfish, is based on the recognition of historical participation of fishing vessels and processors in the CGOA rockfish fisheries from 1996 to 2002. The rockfish primary species are northern rockfish, Pacific ocean perch, and dusky rockfish. The rockfish secondary species are Pacific cod, rougheye rockfish, shortraker rockfish, and sablefish. The RP provides catch limits for non-rockfish species and non-target rockfish species harvested with the CGOA rockfish species, based upon historical harvest levels of these incidentally caught species, and sets aside up to 5 percent of the TAC of the CGOA rockfish fisheries for CVs that are not eligible to participate in the program. The RP apportions TAC to cooperatives formed by individuals holding a License Limitation Program (LLP) license with rockfish quota share (QS). Fishing under cooperative management resulted in a slower-paced fishery that allowed harvesters to choose when to fish and provided greater stability for processors by spreading out production over a longer period of time.

Final Rule

Amendment 113 and this final rule address changes in, and potentially resolve associated commercial fish market impacts to, the RP fishery since the RP was reauthorized in 2021. A detailed description of this action and its development is provided in the preamble to the proposed rule and in the Analysis.

This final rule changes the regulations to improve the likelihood that the TACs for the rockfish species are fully harvested and landed in Kodiak. This final rule provides additional flexibility for trawl vessels to participate in the RP during April each year, and keep rockfish processors fully operational, thus mitigating impacts from changes in market conditions. This final rule also implements changes to three of the RP use caps to remove constraints on the amount of CQ that can be caught or processed by participants, while still maintaining RP's original intent to limit consolidation while allowing this fishery to be prosecuted in a sustainable and functional manner. The term “use cap” or “cap” is the limit on the quota that can be caught or processed by participants in the RP.

Change in Rockfish Program Season Start Date

This final rule changes the start date for this fishery from May 1 to April 1, specified at 50 CFR 679.80(a)(3)(ii) for a rockfish cooperative, to enhance flexibility for processing plants and vessel operators participating in the RP. This change in season start date helps maintain processing capacity for other non-trawl fisheries through workforce stability.

This final rule changes associated references to RP season start dates in §§ 679.5(r)(10), 679.7(n)(3)(i), 679.7(n)(6)(vi), 679.51(a)(2)(vi)(D)(1), 679.81(i)(3), 679.84(g)(1), and 679.84(g)(2). The changes in § 679.5(r)(10) add April to the reporting period of the Rockfish Ex-vessel Volume and Value Report. The changes in § 679.7(n)(3)(i) and (n)(6)(vi) extend the requirement to use a Vessel Monitoring System (VMS) during the month of April while operating in the RP fishery. The changes in § 679.51(a)(2)(vi)(D)(1) extend the observer requirements for RP from May to the month of April. The changes in §§ 679.81(i)(3), 679.84(g)(1), and 679.84(g)(2) extend when catch of the rockfish primary species and rockfish secondary species are deducted from CQ from May to the month of April. These provisions all reference the season start date for RP and the changes in this final rule make the regulations consistent with the change to the season start date and eliminate references to the prior start date of May 1.

Remove the Catcher Vessel Cooperative Rockfish CQ Use Cap

This final rule removes § 679.82(a)(3), thereby eliminating the CV cooperative rockfish CQ use cap that prevents a CV rockfish cooperative from holding or using an amount of rockfish primary species CQ during a calendar year that is greater than an amount resulting from 30.0 percent of the aggregate rockfish primary species QS initially assigned to the CV sector. Therefore, this final rule relieves the unnecessary administrative burden caused by the CQ use cap preventing RP CVs from joining together into larger cooperatives, providing more flexibility within the RP fishery for CVs.

Increase the Use Caps for Rockfish Processors

This final rule revises 50 CFR 679.82(a)(5) to increase the use cap for rockfish processors from 30 percent to 40 percent of the CV QS pool for rockfish primary species, Pacific cod, and sablefish, which ensures that a minimum of three Kodiak processors are necessary to process all the RP CQ.

Revise CV Aggregated Rockfish Harvesting Cap

This final rule revises 50 CFR 679.82(a)(4) by removing dusky rockfish and northern rockfish from the calculation of the 8 percent harvest vessel use cap for CVs. This final rule does not change the harvest vessel use cap for catcher/processor vessels.

This change removes the phrases “rockfish primary species” and “aggregate rockfish primary species” in paragraph (4) and replaces them with the phrase “Pacific ocean perch.” This effectively removes dusky rockfish and northern rockfish from the calculation of the 8 percent harvest vessel use cap, so that the cap now applies only to a CV's harvest of Pacific ocean perch. This may improve the likelihood that the TACs for the rockfish primary species and the rockfish secondary species are fully harvested and landed in Kodiak.

Other Regulatory Changes

In addition to the regulatory changes necessary to implement amendment 113, NMFS revises the following regulations for clarity, efficiency, and technical consistency:

• Replace all relevant instances of “pelagic shelf rockfish” with “dusky rockfish” in 50 CFR 679.7(n)(4), 679.7(n)(6)(vi), and table 37 in part 679. This change clarifies that the regulations apply only to one species: dusky rockfish. This resolves an incorrect species grouping reference that was not completely resolved with the final rule to implement amendment 111 to the GOA FMP (86 FR 11895, March 1, 2021);

• Revise 50 CFR 679.5(r)(8)(i)(A) and (B) to allow vessel operators to submit the check in/out reports on behalf of the rockfish cooperative for additional flexibility;

• Remove the website address for the NMFS Alaska Region website in 50 CFR 679.5(r)(10)(v);

• Revise 50 CFR 679.81(f)(4) by removing the requirement to submit all listed documents for the Annual Application for the RP. Thus, all documents are required to be submitted with an initial application, while applicants are required to resubmit only those documents from the initial application that contain new or changed information; and

• Revise 50 CFR 679.81(g)(2)(i) and (ii) by removing “Transfer Key” from the application for inter-cooperative transfer of cooperative quota, as Transfer Keys are no longer used by the RP.

Comments and Responses

NMFS received three comment letters on the Notice of Availability and the proposed rule. NMFS summarized and responded to the three unique comments below. The comments were from individuals and industry participants. One comment was outside the scope of this action.

Comment 1: The fishery is under extreme stress due to global and domestic seafood market conditions across all species and sectors. These adjustments help alleviate some of these challenges and stressors.

Response: NMFS acknowledges the comment.

Comment 2: The current practice of having the cooperative's designated representative perform all the check ins and check outs has worked well to date and a regulatory change is not warranted for catcher vessels. The provision allowing vessel operators to check vessels in and out of the fishery should be limited to the Catcher Processor sector.

Response: This provision requires that the designated representative authorizes a vessel operator to complete vessel check-ins and check-outs. This is a voluntary action and the designated representative may opt to complete all vessel check-ins and check-outs for the CV sector.

Changes From Proposed to Final Rule

NMFS made no changes from the proposed to final rule.

Classification

NMFS is issuing this final rule pursuant to sections 304(b) and 305(d) of the Magnuson-Stevens Act, which provide the specific authority for implementing this action. Pursuant to sections 304(b) and 305(d) of the Magnuson-Stevens Act, this action is necessary to carry out amendment 113 to the GOA FMP, other provisions of the Magnuson-Stevens Act, and other applicable law, and to revise regulations associated with the RP for clarity and technical consistency. Section 305(d), in particular, grants the authority to make technical changes to existing regulations, updating cross-references, and clarifications to facilitate pre-planned efficiencies. The NMFS Assistant Administrator has determined that this final rule is consistent with the FMP, other provisions of the Magnuson-Stevens Act, and other applicable law.

This final rule has been determined to be not significant for the purposes of Executive Order 12866.

Final Regulatory Flexibility Analysis (FRFA)

This FRFA incorporates the initial regulatory flexibility analysis (IRFA), a summary of the significant issues raised by the public comments in response to the IRFA, NMFS's responses to those comments, and a summary of the analyses completed to support this action.

Section 604 of the Regulatory Flexibility Act (RFA) requires that, when an agency promulgates a final rule under section 553 of Title 5 of the U.S. Code, after being required by that section or any other law to publish a general notice of proposed rulemaking, the agency shall prepare a FRFA. Section 604 describes the required contents of a FRFA: (1) a statement of the need for and objectives for this rule; (2) a statement of the significant issues raised by the public comments in response to the IRFA, a statement of the assessment of the agency of such issues, and a statement of any changes made to the proposed rule as a result of such comments; (3) the response of the agency to any comments filed by the Chief Counsel for Advocacy of the Small Business Administration (SBA) in response to the proposed rule, and a detailed statement of any change made to the proposed rule in this final rule as a result of the comments; (4) a description of and an estimate of the number of small entities to which the rule will apply or an explanation of why no such estimate is available); (5) a description of the projected reporting, recordkeeping, and other compliance requirements of the rule, including an estimate of the classes of small entities that will be subject to the requirement and the type of professional skills necessary for preparation of the report or record; and (6) a description of the steps the agency has taken to minimize the significant economic impact on small entities consistent with the stated objectives of applicable statutes including a statement of the factual, policy, and legal reasons for selecting the alternative adopted in this final rule and why each one of the other significant alternatives to the rule considered by the agency which affect the impact on small entities was rejected.

A description of this final rule and the need for and objectives of this rule are contained in the preamble to this final rule and the preamble to the proposed rule and are not repeated here (89 FR 40449, May 10, 2024).

Public and Chief Counsel for Advocacy Comments on the Proposed Rule

NMFS published the proposed rule on May 10, 2024 (89 FR 40449). An IRFA was prepared and summarized in the “Classification” section of the preamble to the proposed rule. The comment period closed on June 10, 2024. NMFS received three letters of public comment on the proposed rule and amendment 113. The Chief Counsel for Advocacy of the SBA did not file any comments on the proposed rule.

Summary of Significant Issues Raised During Public Comment

NMFS received no comments on the IRFA.

Number and Description of Small Entities Regulated by This Final Action

This final rule directly regulates the owners and operators of CVs and catcher/processor vessels eligible to participate in the CGOA RP. In 2022 (i.e., the most recent year of complete data), 57 vessels participated in the RP, 26 of which are considered small entities based on the $11 million threshold. None of the nine catcher/processor vessels that participate in the RP are classified as small entities because their combined gross income through affiliation with the amendment 80 cooperative exceeds the $11 million first wholesale value threshold for combined annual receipts for all affiliated operations worldwide. Additional detail is included in sections 2.9 in the Analysis prepared for this rule (see ADDRESSES).

Recordkeeping, Reporting, and Other Compliance Requirements

This final rule modifies recordkeeping and reporting requirements under the RP to: (1) add the month of April to the Rockfish Ex-vessel Volume and Value Report; (2) modify cooperative check-in/out procedures to allow vessel operators to perform the check-in/out; (3) prohibit operation of a vessel that is assigned to a rockfish cooperative and fail to use functioning VMS equipment at all times when operating in a reporting area off Alaska for the month of April; and (4) require documentation for the Annual Application for the RP on the initial application, while subsequently requiring less documentation. Subsequent applications will only be required to resubmit documents for the application if information has changed. These recordkeeping and reporting changes clarify existing provisions of the RP and remove unnecessary reporting requirements, with the result of slightly reducing the reporting burden for all directly regulated entities including small entities. The impact of these changes is described in more detail in section 2.8.2 of the Analysis prepared for this final rule (See ADDRESSES).

Description of Significant Alternatives That Minimize Adverse Impacts on Small Entities

In recommending amendment 113 and this rule, the Council considered two alternatives, with multiple elements, including the “no action” alternative (Alternative 1) and an action alternative (Alternative 2) to modify the RP with four options to address a suite of potential management revisions. Those options, which are described (along with a description of the benefits of each option) above in the section entitled, “Final Rule,” are to: (1) change the season start date from May 1 to April 1; (2) remove the CV cooperative rockfish CQ use cap; (3) increase the use caps for rockfish processors; and (4) revise the CV aggregated rockfish harvesting cap. As described above in the “Final Rule” section, these options enhance flexibility (options 1, 2 and 3), relieve unnecessary administrative burdens for participants in the RP (option 2), and provide increased opportunities to harvest a larger portion of the dusky rockfish and northern rockfish CQ (option 4). The option to increase the processor use cap from 30 to 40 percent could allow consolidation of RP processing activity to three rockfish processors in Kodiak. This allows for the reduction of the number of operating rockfish processors from four to three. The expected result of this option to increase the processing cap would be continued limiting of processor consolidation while also allowing for additional flexibility compared to the status quo. These adjustments to the current CGOA RP allow additional flexibility to adapt to changing market and environmental conditions, both on the water and in processing capacity within the community, as discussed in the “Final Rule” section. The Council selected, and this final rule implements, Alternative 2, and all four options under that alternative, which would increase net benefits to the nation in comparison to the status quo. The final action meets the overall goals of prosecuting this fishery in a sustainable and functional manner and better ensuring that the TACs for the primary rockfish species and other allocated species are fully harvested and landed in Kodiak. As noted by the Council in its purpose and need statement, this final action includes relatively small changes to the regulations but these changes could have a meaningful impact on the fishery and the Kodiak community.

Based upon the best available scientific data, and in consideration of the Council's and NMFS's objectives of this action, there are no significant alternatives to Alternative 2, which would be implemented by this final rule, that have the potential to accomplish the stated objectives of the Magnuson-Stevens Act and any other applicable statutes, and that have the potential to minimize any significant adverse economic impact of this final rule on small entities. After consideration of input from the public, the Council and NMFS concluded that the final action best accomplishes the stated objectives articulated above in the SUPPLEMENTARY INFORMATION section of this final rule, and in applicable statutes, and would minimize any significant economic impact of the proposed rule on small entities.

Small Entity Compliance Guide

Section 212 of the Small Business Regulatory Enforcement Fairness Act of 1996 states that, for each rule or group of related rules for which an agency is required to prepare a final regulatory flexibility analysis, the agency shall publish one or more guides to assist small entities in complying with the rule and shall designate such publications as “small entity compliance guides.” The agency shall explain the actions a small entity is required to take to comply with a rule or group of rules. The preambles to the proposed rule and this final rule include a detailed description of the actions necessary to comply with this rule. This action does not require any additional compliance from small entities that is not described in the preambles to the proposed rule and this final rule. Copies of the proposed rule and this final rule are available from the NMFS website at https://www.fisheries.noaa.gov/region/alaska.

Collection-of-Information Requirements

Under the Paperwork Reduction Act (PRA) of 1995, two collections of information (and the requirements therein) would continue to apply with no changes: Office of Management and Budget (OMB) Control Number 0648-0445, NMFS Alaska Region VMS Program; and OMB Control Number 0648-0711, Alaska Cost Recovery and Fee Programs. This final rule does not contain a change to the requirements contained in these two collections.

This final rule contains collection-of-information requirements subject to review and approval by the OMB under the PRA. This final rule revises existing requirements for the collection of information OMB Control Number 0648-0545, entitled “Central Gulf of Alaska Rockfish Program: Permits and Reports.” As described below, the revisions made by this final rule to OMB Control Number 0648-0545 will not result in a change in estimated burden hours. Because of a concurrent action (submitted for three-year renewal) for 0648-0545, the revision to that collection of information for this rule will be assigned a temporary control number, OMB Control Number 0648-0826, that will later be merged into 0648-0545.

Specifically, this final rule revises the requirements for the Application for Rockfish Cooperative Fishing Quota to require the documents listed at 50 CFR 679.81(f)(4)(i) to be submitted only with the initial application. In subsequent applications, applicants would need to resubmit these documents only if information has changed. This will not modify the respondents, responses, or the burden related to this application. This final rule also allows vessel operators to conduct the check-in and check-out process for the rockfish cooperative vessel check-in and check-out reports. Currently this can only be done by the RP cooperative representative. This revision adds 10 vessel operators as new respondents for the rockfish check-in and check-out reports but does not change the number of responses or the burden.

The public reporting burden for the Application for Rockfish Cooperative Fishing Quota is estimated to average two hours and the check-in and check-out reports are estimated to average 10 minutes each. These burden estimates include the time for reviewing instructions, searching existing data sources, gathering and maintaining the data needed, and completing and reviewing the collection of information.

We invite the general public and other Federal agencies to comment on proposed and continuing information collections, which helps us assess the impact of our information collection requirements and minimize the public's reporting burden. Written comments and recommendations for this information collection should be submitted at www.reginfo.gov/public/do/PRAMain. Find these particular information collections by selecting “Currently under Review” or by using the search function and entering the title of the collection or the OMB Control Number.

Notwithstanding any other provision of the law, no person is required to respond to, nor shall any person be subject to a penalty for failure to comply with, a collection of information subject to the requirements of the PRA, unless that collection of information displays a currently valid OMB Control Number.

List of Subjects in 50 CFR Part 679

Alaska, Fisheries, Reporting and recordkeeping requirements.

Dated: August 8, 2024.
Samuel D. Rauch III,
Deputy Assistant Administrator for Regulatory Programs, National Marine Fisheries Service.

For the reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.5, revise paragraphs (r)(8)(i)(A) introductory text, (r)(8)(i)(B) introductory text, (r)(8)(ii), and (r)(10)(ii) and (v) to read as follows:

§ 679.5 Recordkeeping and reporting (R&R).

* * * * *

(r) * * *

(8) * * *

(i) * * *

(A) Vessel check-in. The designated representative of a rockfish cooperative must designate any vessel that is authorized to fish under the rockfish cooperative's CQ permit, or, if authorized by the rockfish cooperative, the operator of a vessel must do so, before that vessel may fish under that CQ permit through a check-in procedure. The designated representative for a rockfish cooperative or operator of the vessel must submit to NMFS, in accordance with paragraph (r)(8)(ii) of this section, a check-in designation for a vessel:

* * * * *

(B) Vessel check-out. The designated representative of a rockfish cooperative must designate any vessel that is no longer fishing under a CQ permit for that rockfish cooperative, or, if authorized by the rockfish cooperative, the operator of the vessel must do so, through a check-out procedure. A check-out report must be submitted to NMFS, in accordance with (r)(8)(ii) of this section, within 6 hours after the effective date and time the rockfish cooperative ends the vessel's authority to fish under the CQ permit.

* * * * *

(ii) Submittal. The designated representative of the rockfish cooperative or, if authorized by the rockfish cooperative, the operator of a vessel must submit a vessel check-in or check-out report electronically. The rockfish cooperative's designated representative or vessel operator must log into the online system and create a vessel check-in or vessel check-out request as indicated on the computer screen. By using the NMFS ID password and submitting the transfer request, the designated representative or vessel operator certifies that all information is true, correct, and complete.

* * * * *

(10) * * *

(ii) Reporting period. The reporting period of the Rockfish Ex-vessel Volume and Value Report shall extend from April 1 through November 15 of each year.

* * * * *

(v) Submittal. The rockfish processor must complete and submit online by electronic submission to NMFS the Rockfish Ex-vessel Volume and Value Report available at the Alaska Region website.

* * * * *

3. Amend § 679.7 by:

a. Revising paragraph (n)(3)(i) introductory text; and

b. Removing in paragraphs (n)(4) and (n)(6)(vi) the phrase “pelagic shelf rockfish” and adding, in its place, the phrase “dusky rockfish”.

The revision reads as follows:

§ 679.7 Prohibitions.

* * * * *

(n) * * *

(3) * * *

(i) Operate a vessel that is assigned to a rockfish cooperative and fail to use functioning VMS equipment as described at § 679.28(f) at all times when operating in a reporting area off Alaska from April 1:

* * * * *

4. In § 679.51, revise paragraph (a)(2)(vi)(D)(1) to read as follows:

§ 679.51 Observer and Electronic Monitoring System requirements for vessels and plants.

(a) * * *

(2) * * *

(vi) * * *

(D) * * *

(1) Rockfish cooperative. A catcher/processor that is named on an LLP license that is assigned to a rockfish cooperative and is fishing under a CQ permit must have at least two observers aboard for each day that the vessel is used to catch or process fish in the Central GOA from April 1 through the earlier of November 15 or the effective date and time of an approved rockfish cooperative termination of fishing declaration. At least one observer must be endorsed as a lead level 2 observer. More than two observers must be aboard if the observer workload restriction would otherwise preclude sampling as required.

* * * * *

5. In § 679.80, revise paragraph (a)(3)(ii) to read as follows:

§ 679.80 Allocation and transfer of rockfish QS.

* * * * *

(a) * * *

(3) * * *

(ii) Rockfish cooperative. Fishing by vessels participating in a rockfish cooperative is authorized from 1200 hours, A.l.t., April 1 through 1200 hours, A.l.t., November 15.

* * * * *

6. In § 679.81, revise paragraphs (f)(4) introductory text, (f)(4)(i) introductory text, (g)(2)(i) and (ii), and (i)(3)(viii) and (xxii) read as follows:

§ 679.81 Rockfish Program annual harvester privileges.

* * * * *

(f) * * *

(4) Contents of the Application. A completed application must contain the information specified on the Application for Rockfish Cooperative Fishing Quota identifying the rockfish cooperative, members of the cooperative, and processor associate of a catcher vessel rockfish cooperative, with all applicable fields accurately filled-in and all required documentation attached. The initial application must contain all documents specified in paragraph (f)(4)(i) of this section. Subsequent applications will only be required to resubmit documents specified at paragraph (f)(4)(i) of this section if the information they contain has changed.

(i) Additional documentation. For the cooperative application to be considered complete, the following documents must be attached to the initial application:

* * * * *

(g) * * *

(2) * * *

(i) The transferor's designated representative must log into NMFS' online system and create a transfer request as indicated on the computer screen. By using the transferor's NMFS ID and password, and submitting the transfer request, the designated representative certifies that all information is true, correct, and complete.

(ii) The transferee's designated representative must log into the online system and accept the transfer request. By using the transferee's NMFS ID and password, the designated representative certifies that all information is true, correct, and complete.

* * * * *

(i) * * *

(3) * * *

Requirement | Catcher vessel sector | Catcher/processor sector
* * * * * * *
(viii) Is there a season during which designated vessels may catch CQ? | Yes, any vessel designated to catch CQ for a rockfish cooperative is limited to catching CQ during the season beginning on 1200 hours, A.l.t., on April 1 through 1200 hours, A.l.t., on November 15.
* * * * * * *
(xxii) When does catch count against my CQ permit? | Any vessel fishing checked-in (and therefore fishing under the authority of a CQ permit must count any catch of rockfish primary species, rockfish secondary species, or rockfish halibut PSC against that rockfish cooperative's CQ from April 1 until November 15, or until the effective date of a rockfish cooperative termination of fishing declaration that has been approved by NMFS).
* * * * * * *

* * * * *

7. In § 679.82, remove and reserve paragraph (a)(3) and revise paragraphs (a)(4)(i) and (a)(5) to read as follows:

§ 679.82 Rockfish Program use caps and sideboard limits.

(a) * * *

(4) * * *

(i) A catcher vessel may not harvest an amount of Pacific ocean perch CQ greater than 8.0 percent of the Pacific ocean perch CQ issued to the catcher vessel sector during a calendar year.

* * * * *

(5) Use cap for rockfish processors. (i) A rockfish processor may not receive or process an amount of rockfish primary species harvested with CQ assigned to the catcher vessel sector greater than 40.0 percent of the aggregate rockfish primary species CQ assigned to the catcher vessel sector during a calendar year.

(ii) A rockfish processor may not receive or process an amount of Pacific cod harvested with CQ assigned to the catcher vessel sector greater than 40.0 percent of Pacific cod CQ issued to the catcher vessel sector during a calendar year.

(iii) A rockfish processor may not receive or process an amount of sablefish harvested with CQ assigned to the catcher vessel sector greater than 40.0 percent of sablefish CQ issued to the catcher vessel sector during a calendar year.

* * * * *

§ 679.84 [Amended]

8. Amend § 679.84 by removing in paragraphs (g)(1) and (2) the word “May” and add, in its place, the word “April”.

9. Revise table 37 to § 679 to read as follows.

Table 37 to Part 679—GOA Amendment 80 Sideboard Limit for Groundfish for the Amendment 80 Sector
In the following management areas in the GOA and in adjacent waters open by the State of Alaska for which it adopts a Federal fishing season . . . | The sideboard limit for . . . | Is . . .
Area 610 | Pollock | 0.3% of the TAC.
Area 620 | Pollock | 0.2% of the TAC.
Area 630 | Pollock | 0.2% of the TAC.
Area 640 | Pollock | 0.2% of the TAC.
West Yakutat District | Pacific cod | 3.4% of the TAC.
| Pacific ocean perch | 96.1% of the TAC.
| Dusky rockfish | 89.6% of the TAC.
Central GOA | Pacific cod | 4.4% of the TAC.
| Pacific ocean perch | Subject to regulations in subpart G to this part.
| Dusky rockfish | Subject to regulations in subpart G to this part.
| Northern rockfish | Subject to regulations in subpart G to this part.
Western GOA | Pacific cod | 2.0% of the TAC.
| Pacific ocean perch | 99.4% of the TAC.
| Dusky rockfish | 76.4% of the TAC.
| Northern rockfish | 100% of the TAC.

[FR Doc. 2024-18053 Filed 8-15-24; 8:45 am]

BILLING CODE 3510-22-P